DEPARTMENT OF ENERGY

Federal Energy Regulatory Commission

[Docket No. RP01-34-001]

Overthrust Pipeline Company; Notice of Tariff Filing

November 28, 2000.

Take notice that on November 21, 2000, Overthrust Pipeline Company (Overthrust) tendered for filing as part of its FERC Gas Tariff, First Revised Volume No. 1-A, Substitute First Revised Sheet No. 67D and Substitute Original Sheet No. 67F, to be effective November 1, 2000.

Overthrust states that the purpose of this filing is to comply with Ordering Paragraph (C) of the Commission's Order on Filings to Establish Imbalance Netting and Trading Pursuant to Order Nos. 587-G and 587-L issued November 9, 2000, in Docket Nos. RM96-1-014, et al., which directed Overthrust to file revised tariff sheets, within 15 days of the order. The revisions to be included are (1) the removal of the provision that, under certain circumstances, Overthrust can adjust a shipper's receipts and deliveries or take whatever action it deems necessary to keep the system in balance or maintain operational stability and system integrity and (2) corrects the references to “T-1” and “T-2” agreements by replacing them with “FT” and “IT” agreements.

Overthrust states that a copy of this filing has been served upon its customers, the Public Service Commission of Utah and the Public Service Commission of Wyoming.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 00-30739 Filed 12-1-00; 8:45 am]

BILLING CODE 6717-01-M